DEPARTMENT OF COMMERCE

National Oceanic and Atmospheric Administration

RIN 0648-XW50

New England Fishery Management Council; Public Meeting

AGENCY: National Marine Fisheries Service (NMFS), National Oceanic and Atmospheric Administration (NOAA), Commerce.

ACTION: Notice of a public meeting.

SUMMARY: The New England Fishery Management Council (Council) is scheduling a public meeting of its Habitat/MPA/Ecosystem Committee in June, 2010 to consider actions affecting New England fisheries in the exclusive economic zone (EEZ). Recommendations from this group will be brought to the full Council for formal consideration and action, if appropriate.

DATES: This meeting will be held on Thursday, June 10, 2010 at 9:30 a.m.

ADDRESSES: This meeting will be held at the Marriott Hotel, 1 Orms Street, Providence, RI 02904; telephone: (401) 272-2400; fax: (401) 421-8006.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The Committee will review goals and objectives for Omnibus EFH Amendment 2 and will also review PDT recommendations for additions/removals/modifications of habitat closed area (gear restricted areas) based on SASI model simulation runs. Based on these recommendations, the committee will develop alternatives related to additions/removals/modifications of habitat closed areas (gear restricted areas). These alternatives will be reviewed by the full Council at the June 22-24 meeting for inclusion in the Omnibus EFH Amendment 2 DEIS. As time permits and pending completion of analyses by the PDT, discuss ongoing PDT work and recommendations related to deep-sea coral protection areas, Habitat Areas of Particular Concern (HAPCs), research areas, and practicability metrics. Other topics may be discussed at the Chair's discretion.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: May 13, 2010.
Tracey L. Thompson,
Acting Director, Office of Sustainable Fisheries, National Marine Fisheries Service.

[FR Doc. 2010-11897 Filed 5-18-10; 8:45 am]

BILLING CODE 3510-22-S